DEPARTMENT OF THE INTERIOR

Bureau of Land Management

[16X L1109AF LLUT980300 L13100000.XZ0000 24-1A]

Second Call for Nominations for the Utah Resource Advisory Council, State Agency Category

AGENCY: Bureau of Land Management, Interior.

ACTION: Notice.

SUMMARY: The purpose of this notice is to request a second call for nominations for one open position on the Bureau of Land Management (BLM) Utah Resource Advisory Council (RAC) because we did not receive a sufficient number of applications from the first call for nominations. The vacant position is in category three, employees of a State agency responsible for the management of natural resources. The RAC provides advice and recommendations to the BLM on land use planning and management of the National System of Public Lands within their geographic areas. The BLM will accept public nominations for 30 days after the publication of this notice.

DATES: All nominations must be received no later than October 3, 2016.

ADDRESSES: All nominations must be sent to Lola Bird, Public Affairs Specialist, Bureau of Land Management, Utah State Office, 440 West 200 South, Suite 500, Salt Lake City, Utah 84101.

FOR FURTHER INFORMATION CONTACT: Lola Bird, Public Affairs Specialist, Bureau of Land Management Utah State Office, 440 West 200 South, Suite 500, Salt Lake City, Utah 84101; by telephone (801) 539-4033 or by email: lbird@blm.gov. Persons who use a telecommunications device for the deaf (TDD) may call the Federal Information Relay Service (FIRS) at 1-800-877-8339 to leave a message or question for the above individual. The FIRS is available 24 hours a day, seven days a week. Replies are provided during normal business hours.

SUPPLEMENTARY INFORMATION: The Federal Land Policy and Management Act (FLPMA) directs the Secretary of the Interior to involve the public in planning and issues related to management of public lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands.

The BLM-Utah RAC is hosting a call for nominations for a vacant position in category three (description addressed in the SUMMARY above). Upon appointment, the individual selected will fill the position until the term's ending date of June 22, 2018. Nominees must be residents of Utah. The BLM will evaluate nominees based on their training, education, experience, and knowledge of the council's geographical area. Nominees should also demonstrate a commitment to consensus building and collaborative resource decision-making. Individuals who are Federally registered lobbyists are ineligible to serve on all FACA and non-FACA boards, committees, or councils in an individual capacity. The term “individual capacity” refers to individuals who are appointed to exercise their own individual best judgment on behalf of the government, such as when they are designated Special Government Employees, rather than being appointed to represent a particular interest. All nominations must be accompanied by letters of reference from any represented interests or organizations, a completed RAC application, and any other information that speaks to the nominee's qualifications.

The BLM-Utah will consult with the governor's office before forwarding its recommendations to the Secretary of the Interior for a final decision. Simultaneous with this notice, BLM-Utah will issue a press release providing additional information for submitting nominations.

Authority: 43 CFR 1784.4-1.

Jenna Whitlock,
Acting State Director.

[FR Doc. 2016-21102 Filed 8-31-16; 8:45 am]

BILLING CODE 4310-DQ-P